DEPARTMENT OF COMMERCE

International Trade Administration

[A-570-890]

Wooden Bedroom Furniture From the People's Republic of China: Final Results Antidumping Duty Administrative Review and Final Determination of No Shipments in Part; 2015

AGENCY: Enforcement and Compliance, International Trade Administration, Department of Commerce.

SUMMARY: On October 11, 2016, the Department of Commerce (the “Department”) published the preliminary results of the eleventh administrative review (“AR”) of the antidumping duty order on wooden bedroom furniture (“WBF”) from the People's Republic of China (“PRC”). The period of review (“POR”) is January 1, 2015, through December 31, 2015. The AR covers 18 PRC exporters of subject merchandise, of which the Department selected one company for individual examination, Nantong Wangzhuang Furniture Co., Ltd. (“Nantong Wangzhuang”). For these final results, we continue to find that WBF has been sold in the United States at less than normal value and that certain companies subject to this administrative review had no shipments during the POR.

DATES: Effective February 15, 2017.

FOR FURTHER INFORMATION CONTACT: Aleksandras Nakutis, AD/CVD Operations, Office IV, Enforcement and Compliance, International Trade Administration, U.S. Department of Commerce, 1401 Constitution Avenue NW., Washington, DC 20230; telephone: (202) 482-3147.

SUPPLEMENTARY INFORMATION:

Background

On October 11, 2016, the Department published, and invited interested parties to comment on, the Preliminary Results.¹ We received comments from the American Furniture Manufacturers Committee for Legal Trade and Vaughan-Bassett Furniture Company, Inc. (collectively “Petitioners”). No other party commented. We received no requests for a hearing. After consideration of Petitioners' comments, our final results remain unchanged from the Preliminary Results. For a complete description of the events that followed the publication of the Preliminary Results, see the Issues and Decision Memorandum ² which is dated concurrently with, and hereby adopted by, this notice.

¹ See Wooden Bedroom Furniture from the People's Republic of China: Preliminary Results of Antidumping Duty Administrative Review and Preliminary Determination of No Shipments in Part; 2015, 81 FR 70092 (October 11, 2016) (“Preliminary Results”).

² See the Memorandum from Gary Taverman, Associate Deputy Assistant Secretary for Antidumping and Countervailing Duty Operations, to Ronald K. Lorentzen, Acting Assistant Secretary for Enforcement and Compliance, “Wooden Bedroom Furniture from the People's Republic of China: Issues and Decision Memorandum for the Final Results of the Eleventh Antidumping Duty Administrative Review” (“Issues and Decision Memorandum”).

Scope of the Order

The product covered by the order is wooden bedroom furniture, subject to certain exceptions.³ Imports of subject merchandise are classified under the Harmonized Tariff Schedule of the United States (“HTSUS”) subheadings: 7009.92.1000, 7009.92.5000, 9403.20.0018, 9403.50.9041, 9403.50.9042, 9403.50.9045, 9403.50.9080, 9403.60.8081, and 9403.90.8041. Although the HTSUS subheadings are provided for convenience and customs purposes, the written product description in the Order remains dispositive.⁴

³ See Notice of Amended Final Determination of Sales at Less Than Fair Value and Antidumping Duty Order: Wooden Bedroom Furniture from the People's Republic of China, 70 FR 329 (January 4, 2005) (“Order”).

⁴ For a complete description of the scope of the Order, see the Issues and Decision Memorandum.

Analysis of the Comments Received

Final Results of Review

As noted above, only Petitioners submitted comments on the Preliminary Results. The issues raised in Petitioners' case brief are addressed in the Issues and Decision Memorandum. A list of the issues addressed in the Issues and Decision Memorandum is appended to this notice. The Issues and Decision Memorandum is a public document and is on file electronically via Enforcement and Compliance's Antidumping and Countervailing Duty Centralized Electronic Services System (“ACCESS”). ACCESS is available to registered users at http://access.trade.gov and it is available to all parties in the Central Records Unit of the main Department building, Room B8024. In addition, a complete version of the Issues and Decision Memorandum can be accessed directly on the internet at http://enforcement.trade.gov/frn/. The signed and electronic versions of the Issues and Decision Memorandum are identical in content.

Separate Rates

In the Preliminary Results, the Department determined that seven companies under review, including Nantong Wangzhuang, the sole mandatory respondent, did not establish their eligibility for separate rate status and would be treated as part of the PRC-wide entity.⁵ No parties argued against our preliminary separate rates determination.⁶ In these final results of review, we continue to determine that these seven companies should be treated as part of the PRC-wide entity, because they have not established their separate rate eligibility. Because no party requested a review of the PRC-wide entity, we are not conducting a review of the PRC-wide entity.⁷ Thus, there is no change to the rate for the PRC-wide entity from the Preliminary Results. The existing rate for the PRC-wide entity is 216.01 percent.

⁵ See Preliminary Results. The six companies that did not establish their eligibility for a separate rate, besides Nantong Wangzhuang, are: (1) Dongguan Singways Furniture Co., Ltd.; (2) Clearwise Co., Ltd.; (3) Passwell Corporation; Pleasant Wave Ltd.; (4) Shanghai JianPu Export & Import Co., Ltd.; (5) Decca Furniture Ltd.; and (6) Hangzhou Cadman Trading Co., Ltd. (Exporter), Haining Changbei Furniture Co., Ltd. (Producer).

⁶ See Memorandum from Edward Yang, Senior Director, Office VII for Antidumping and Countervailing Duty Operations, to Ronald K. Lorentzen, Acting Assistant Secretary for Enforcement and Compliance, “Decision Memorandum for the Preliminary results of the Antidumping Duty Administrative Review: Wooden Bedroom Furniture from the People's Republic of China,” dated October 3, 2016 (“Preliminary Decision Memorandum”).

⁷ See Antidumping Proceedings: Announcement of Change in Department Practice for Respondent Selection in Antidumping Duty Proceedings and Conditional Review of the Nonmarket Economy Entity in NME Antidumping Duty Proceedings, 78 FR 65963, 65969-70 (November 4, 2013).

Final Determination of No Shipments

In the Preliminary Results, we determined that 11 companies subject to this AR had no shipments of subject merchandise and, therefore no reviewable transactions, during the POR.⁸ We received no comments concerning our finding of no shipments by these 11 companies. In these final results of review, we continue to determine that these 11 companies had no shipments of subject merchandise during the POR. For a full discussion of this determination, see the Preliminary Decision Memorandum.

⁸ The 11 companies or company groupings with no shipments during the POR are: (1) Dongguan Sunrise Furniture Co., Ltd., Taicang Sunrise Wood Industry Co., Ltd., Taicang Fairmount Designs Furniture Co., Ltd., Meizhou Sunrise Furniture Co., Ltd.; (2) Eurosa (Kunshan) Co., Ltd., Eurosa Furniture Co., (Pte) Ltd.; (3) Golden Well International (HK) Ltd.; (4) Jiangsu Tairui Structure Engineering Co., Ltd.; (5) Nanhai Jiantai Woodwork Co., Ltd., Fortune Glory Industrial Ltd. (H.K. Ltd.); (6) Rizhao Sanmu Woodworking Co., Ltd.; (7) Shenyang Shining Dongxing Furniture Co., Ltd.; (8) Wanvog Furniture (Kunshan) Co., Ltd.; (9) Woodworth Wooden Industries (Dong Guan) Co., Ltd.; (10) Yeh Brothers World Trade Inc.; and (11) Zhejiang Tianyi Scientific & Educational Equipment Co., Ltd.

Assessment Rates

Pursuant to section 751(a)(2)(C) Tariff Act of 1930, as amended (“the Act”), and 19 CFR 351.212(b), the Department has determined, and U.S. Customs and Border Protection (“CBP”) shall assess, antidumping duties on all appropriate entries of subject merchandise in accordance with the final results of this review. The Department intends to issue assessment instructions to CBP 15 days after the publication date of these final results of review. We intend to instruct CBP to liquidate POR entries of subject merchandise from the seven companies, including Nantong Wangzhuang, which failed to establish their eligibility for separate rate status at the rate applicable to the PRC-wide entity. For the 11 companies which the Department determined had no shipments during the POR, if there are any suspended entries under any of those companies' antidumping case numbers, they will be liquidated at the assessment rate for the PRC-wide entity.⁹

⁹ For a full discussion of this practice, see Non-Market Economy Antidumping Proceedings: Assessment of Antidumping Duties, 76 FR 65694 (October 24, 2011).

Cash Deposit Requirements

The following cash deposit requirements will be effective for shipments of the subject merchandise from the PRC entered, or withdrawn from warehouse, for consumption on or after the publication date in the Federal Register of the final results of review, as provided by section 751(a)(2)(C) of the Act: (1) For previously investigated or reviewed PRC and non-PRC exporters which are not under review in this segment of the proceeding but which have separate rates, the cash deposit rate will continue to be the existing exporter-specific rate; (2) for all PRC exporters of subject merchandise that have not been found to be entitled to a separate rate, including Nantong Wangzhuang and the six companies noted above, the cash deposit rate will be the rate for the PRC-wide entity, which is 216.01 percent; (3) for all non-PRC exporters of subject merchandise which have not received their own rate, the cash deposit rate will be the rate applicable to the PRC exporter that supplied that non-PRC exporter; (4) if the exporter is not a firm covered in this or any previous review or in the original less-than-fair-value (LTFV) investigation but the manufacturer is, the cash-deposit rate will be the rate established for the most recent period for the manufacturer of the merchandise. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation, which is subject to sanction.

These final results of review are issued and published in accordance with sections 751(a)(1) and 777(i)(1) of the Act and 19 CFR 351.213(h).

Dated: February 8, 2017.
Ronald K. Lorentzen,
Acting Assistant Secretary for Enforcement and Compliance.

Appendix

Summary

Background

Scope of the Order

Discussion of the Issue Comment: The Department Should Make Determinations Necessary to Address Circumvention and Evasion of the Antidumping Order

Recommendation

[FR Doc. 2017-03046 Filed 2-14-17; 8:45 am]

BILLING CODE 3510-DS-P